FEDERAL HOUSING FINANCE BOARD

Sunshine Act Notice Announcing an Open Meeting of the Board

Time and Date: 10 a.m., Wednesday, June 12, 2002.

Place: Board Room, Second Floor, Federal Housing Finance Board 1777 F Street, NW., Washington, DC 20006.

Status: The entire meeting will be open to the public.

Matter to be Considered During Portions Open to the Public:

• Federal Home Loan Bank of Cincinnati Capital Plan (Tentative)

• Federal Home Loan Bank of Dallas Capital Plan

• Federal Home Loan Bank of Chicago Capital Plan (Tentative)

• Federal Home Loan Bank of San Francisco Capital Plan

• 2002 Designation of Federal Home Loan Bank State Directorships

• Proposed Rule: Affordable Housing Program

Contact Person for More Information: Elaine L. Baker, Secretary to the Board, (202) 408-2837.

James L. Bothwell,
Managing Director.

[FR Doc. 02-14450 Filed 6-5-02; 9:39 am]

BILLING CODE 6725-01-P